DEPARTMENT OF COMMERCE

National Oceanic and Atmospheric Administration

Contracting Policy for Hydrographic Services

AGENCY: National Ocean Service, National Oceanic and Atmospheric Administration (NOAA), Department of Commerce.

ACTION: Notice and Request for Comment.

SUMMARY: The NOAA National Ocean Service (NOS) has drafted an updated contracting policy for hydrographic services. NOAA seeks public comment on this policy in accordance with the Congressional request made during the FY 2005 appropriation process to develop a strategy for expanding mapping and charting contracting with private entities. NOAA will consider comments from the public before finalizing its contracting policy. The final policy will be published in May 2006.

DATES: Comments must be submitted within 30 days of the date of this notice.

ADDRESSES: Written comments should be submitted to Ashley Chappell, Office of Coast Survey, National Ocean Service, NOAA (N/CS), 1315 East West Highway, Station 6113, Silver Spring, MD 20910. Written comments may be faxed to (301) 713-4019, Attention: Ashley Chappell. Comments by e-mail should be submitted to ashley.chappell@noaa.gov.

FOR FURTHER INFORMATION CONTACT: Ashley Chappell, Office of Coast Survey, National Ocean Service, NOAA (N/CS), 1315 East West Highway, Station 6110 Silver Spring, Maryland 20910; Telephone: 301-713-2770 ext. 148.

SUPPLEMENTARY INFORMATION: The following documentation is the draft contracting policy for hydrographic services within the National Oceanic and Atmospheric Administration (NOAA), National Ocean Service (NOS). Appendices referenced in the background statement are available at http://nauticalcharts.noaa.gov/ocs/hsrp/archive/library.htm.

NOAA National Ocean Service Contracting Policy for Hydrographic Services

Background

In House Report 108-576, which accompanied the FY 2005 Consolidated Appropriations Act, Congress recommended that NOAA's National Ocean Service “work with the private mapping community to develop a strategy for expanding contracting with private entities to minimize duplication and take maximum advantage of private sector capabilities in fulfillment of NOAA's mapping and charting responsibilities.” To satisfy this requests, NOAA issued a Federal Register notice for comments on the existing 1996 contracting policy (Appendix A) for surveying and mapping services. Comments received were generally supportive of the existing policy and NOAA's proactive implementation of it, with some suggestions for improvement. NOAA also consulted at public meetings with the Hydrographic Services Review Panel (HSRP), a Federal Advisory Committee established by Congress in the Hydrographic Services Improvement Act as amended, 33 U.S.C. 892c, to review the process by which NOAA's National Ocean Service procures hydrographic services and to provide recommendations for improving the process. NOAA reviewed the HSRP recommendations (Appendix B) and public comments (Appendix C) and incorporated many of the suggestions in the draft revision to the current contracting policy. This policy revision is being published to the Federal Register to allow for further public comment.

NOAA Hydrographic Services Contracting Policy

NOAA recognizes that qualified commercial sources can provide competent, professional, cost-effective hydrographic services to NOAA in support of its mapping and charting mission for enhancing navigation safety. NOAA also recognizes that the provision of hydrographic services, including the acquisition and dissemination of hydrographic and shoreline data, is a core mission requirement of NOAA under the Act of 1947 (known as the Coast and Geodetic Survey Act), 33 U.S.C. 883a et seq., and the 1998 Hydrographic Services Improvement Act (HSIA), as amended in 2002, 33 U.S.C. 892 et seq. In the interest of public and environmental safety, the Federal government's responsibility for executing its hydrographic services missions is manifest and non-delegable. Therefore, it is incumbent upon NOAA, as recommended by the HSRP, to maintain its operational hydrographic services core capability, and contract for the remainder of its hydrographic services to the extent of available funding.

In general, it is the intent of NOAA to contract for hydrographic services when qualified commerical sources exist, and when such contracts are the most cost effective method of conducting these functions. This policy documents the framework and conditions under which contracting will be employed to ensure an open and consistent approach. To support this policy, NOAA will maintain a dialogue with private sector organizations and constituent groups. For the purposes of this policy, the term “hydrographic services” is defined in the HSIA to include “the management, maintenance, interpretation, certification, and dissemination of bathymetric, hydrographic, geodetic, geospatial, geomagnetic, and tide and current information, including the production of nautical charts, nautical information databases, and other products derived from hydrographic data.”

Policy

NOAA will acquire hydrographic services from qualified sources in accordance with applicable Federal Acquisition Regulations (FAR) and as authorized and directed under the Act of 1947 and the HSIA, including use of the Federal Property and Administrative Services Act of 1949, 40 U.S.C. 1101-1104, when appropriate. Commonly known as the “Brooks Act,” these contracting procedures are used in certain situations where the professional nature of the services to be procured requires that potential contractors have specialized technical expertise.

NOAA may determine that a particular surveying or mapping activity is inherently governmental. NOAA surveying and mapping activities considered inherently governmental in nature may include services necessary to: (1) Monitor the quality of NOAA products; (2) promulgate and promote national and international technical standards and specifications; (3) conduct basic research and development and ensure the rapid transfer to the private sector of the derived technology; (4) maintain the Federal geodetic and navigational databases necessary to support safe and efficient marine operations; (5) support coastal stewardship ecosystem applications; and (6) support Maritime Domain Awareness and Homeland Security preparation and response, including maintaining a response capability to provide emergency services and support in response to natural and manmade disasters and other unforeseen requirements. To carry out the above activities, and to adequately monitor contracted services, NOAA will maintain a core capability of field and office expertise.

The government's interests and responsibilities for surveying and mapping vary broadly, and experience has shown that maintaining flexibility is essential in responding to the Nation's changing needs for updated surveying and mapping data. Therefore, NOAA may task qualified commercial sources to conduct surveying and mapping services in any part of the U.S. Exclusive Economic Zone for any NOAA mission-related purpose, irrespective of pre-defined priority categories such as those documented in the NOAA Hydrographic Surveying Priorities.

Ancillary Statements and Actions

As recommended by the HSRP, NOAA will continue to utilize a mix of in-house and private-sector resources to accomplish its hydrographic services missions. Costs and productivity will be closely monitored within each category (i.e., public and private) to ensure best use of hydrographic services resources. NOAA will also seek to determine the optimal resource allocation between in-house and private-sector resources based on the strength of the governmental interest, the total requirement for mapping and charting services, and the particular operational capabilities of either government or private-sector resources that may make one more suitable.

NOAA will continue to examine ways to improve its contracting process, such as methods of minimizing the turnover frequency of contracting personnel and for reducing the length of time required to award contracts and task orders. NOAA will maintain its offer of debriefings to successful and unsuccessful hydrographic services contractors after final selection has taken place. The purpose of these debriefings is to assist contractors with identifying significant weaknesses or deficiencies in their submissions. NOAA is also exploring the establishment an Ocean and Coastal Mapping Training Center. The Training Center was initially conceived as a curriculum to support NOAA's in-house hydrographic surveying training requirements. But NOAA now recognizes value in broadening the Center's scope to include training for NOAA and private sector contractors in techniques, standards, and technologies that support NOAA's many shoreline, coastal, and ocean mapping activities. This concept builds an NOAA's annual Hydrographic Training and Field Procedures Workshops currently held for NOAA personnel and its hydrographic services contractors to train and trade valuable lessons learned from surveying experience. Such training would be beneficial to current or prospective NOAA contractors seeking to strengthen their proposal submissions. To view Appendix A, B, or C; the 1996 National Ocean Service Contracting Policy; the Brooks Act, or the Acts authorizing NOAA Navigation Services programs, visit http://nauticalcharts.noaa.gov/ocs/hsrp/archive/library.htm.

Dated: March 28, 2006.
Roger L. Parsons,
Director, Office of Coast Survey, National Ocean Service, National Oceanic and Atmospheric Administration.

[FR Doc. 06-3340 Filed 4-6-06; 8:45 am]

BILLING CODE 3510-JE-M